NATIONAL SCIENCE FOUNDATION

Proposal Review Panel for Materials Research; Notice of Meeting

In accordance with the Federal Advisory Committee Act (Pub. L. 92-463 as amended), the National Science Foundation announces the following meeting:

Name: Site Visit review of the Materials Research Science and Engineering Center (MRSEC) at California Institute of Technology (Caltech), Pasadena, CA (DMR) #1203.

Dates & Times: Thursday, February 26, 2009, 2008; 7:45 a.m.-9 p.m., Friday, February 27, 2009; 8 a.m.-4:30 p.m.

Place: Caltech, Pasadena, CA.

Type of Meeting: Part-open.

Contact Person: Dr. Rama Bansil, Program Director, Materials Research Science and Engineering Centers Program, Division of Materials Research, Room 1065, National Science Foundation, 4201 Wilson Boulevard, Arlington, VA 22230, Telephone (703) 292-8562.

Purpose of Meeting: To provide advice and recommendations concerning further support of the MRSEC at Caltech, Pasadena, CA.

Agenda:

Thursday, February 26, 2009

7:45 a.m.-9 a.m. Closed—Executive Session.

9 a.m.-4:30 p.m. Open—Review of the Caltech MRSEC.

4:30 p.m.-6 p.m. Closed—Executive Session.

6 p.m.-9 p.m. Open—Poster Session and Dinner.

Friday February 27, 2009

8 a.m.-9 a.m. Closed—Executive session.

9 a.m.-10:15 a.m. Open—Review of the Caltech MRSEC.

10:15 a.m.-4:30 p.m. Closed—Executive Session, Draft and Review Report.

Reason for Closing: The work being reviewed may include information of a proprietary or confidential nature, including technical information; financial data, such as salaries and personal information concerning individuals associated with the proposals. These matters are exempt under 5 U.S.C. 552 b(c), (4) and (6) of the Government in the Sunshine Act.

Dated: January 27, 2009.
Susanne Bolton,
Committee Management Officer..

[FR Doc. E9-1998 Filed 1-29-09; 8:45 am]

BILLING CODE 7555-01-P